DEPARTMENT OF LABOR

Efforts by Certain Foreign Countries To Eliminate the Worst Forms of Child Labor

AGENCY: The Bureau of International Labor Affairs, United States Department of Labor.

ACTION: Notice: Request for information and invitation to comment.

SUMMARY: This notice is a request for information and/or comment on the 2013 Findings on the Worst Forms of Child Labor report (TDA report) issued by the Bureau of International Labor Affairs (ILAB) on October 7, 2014, regarding child labor in certain foreign countries. The recently published TDA report assessed efforts by more than 140 countries to reduce the worst forms of child labor and reported whether countries made significant, moderate, minimal, or no advancement. It also suggested actions foreign countries can take to eliminate the worst forms of child labor through legislation, enforcement, coordination, policies and social programs. This year's report introduced a new streamlined format for country profiles to make it more user-friendly and a better policy tool for engagement. Relevant information will be used by the Department of Labor (DOL) in preparation of its ongoing reporting mandated under the Trade and Development Act of 2000. In addition, ILAB will use relevant information to conduct assessments of each country's advancement toward eliminating the worst forms of child labor during the current calendar year compared to previous years.

DATES: Submitters of information are requested to provide their submission to the Office of Child Labor, Forced Labor, and Human Trafficking (OCFT) at the email or physical address below by 5 p.m. January 15, 2015.

To Submit Information: Information submitted to DOL should be submitted directly to OCFT, Bureau of International Labor Affairs, U.S. Department of Labor, at (202) 693-4843 (this is not a toll free number). Comments, identified as “Docket No. DOL-2014-0009”, may be submitted by any of the following methods:

Federal eRulemaking Portal: http://www.regulations.gov.

The portal includes instructions for submitting comments. Parties submitting responses electronically are encouraged not to submit paper copies.

Facsimile (fax): OCFT at 202-693-4830.

Mail, Express Delivery, Hand Delivery, and Messenger Service (1 copy): Chanda Uluca and Charita Castro at U.S. Department of Labor, OCFT, Bureau of International Labor Affairs, 200 Constitution Avenue NW., Room S-5317, Washington, DC 20210.

Email: Email submissions should be addressed to both Chanda Uluca (Uluca.Chanda@dol.gov) and Charita Castro (Castro.Charita.L@dol.gov).

FOR FURTHER INFORMATION CONTACT: Chanda Uluca and Charita Castro (see contact information above).

SUPPLEMENTARY INFORMATION:

The Trade and Development Act of 2000 (TDA), Public Law 106-200 (2000), established a new eligibility criterion for receipt of trade benefits under the Generalized System of Preferences (GSP), Caribbean Basin Trade and Partnership Act (CBTPA), and Africa Growth and Opportunity Act (AGOA) and the Andean Trade Preference Act/Andean Trade Promotion and Drug Eradication Act (ATPA/ATPDEA).

The TDA amended the GSP reporting requirements of Section 504 of the Trade Act of 1974, 19 U.S.C. 2464, to require that the President's annual report on the status of internationally recognized worker rights include “findings by the Secretary of Labor with respect to the beneficiary country's implementation of its international commitments to eliminate the worst forms of child labor.” Title II of the TDA and the TDA Conference Report, Joint Explanatory Statement of the Committee of Conference, 106th Cong.2d.Sess. (2000), indicate that the same criterion applies for the receipt of benefits under CBTPA and AGOA, respectively. In addition, the Andean Trade Preference Act, as amended and expanded by the Andean Trade Promotion and Drug Eradication Act, Public Law 107-210, Title XXXI (2002), includes as a criterion for receiving benefits “[w]hether the country has implemented its commitments to eliminate the worst forms of child labor as defined in section 507(6) of the Trade Act of 1974.”

DOL fulfills these reporting mandates through annual publication of the U.S. Department of Labor's Findings on the Worst Forms of Child Labor with respect to countries eligible for the aforementioned programs. The 2013 report and additional background information are available on the Internet at http://www.dol.gov/ilab/reports/child-labor/findings/.

Information Requested and Invitation to Comment: Interested parties are invited to comment and provide information regarding DOL's 2013 TDA Report which may be found on the Internet at http://www.dol.gov/ilab/reports/child-labor/findings/ or obtained from OCFT. DOL requests comments or information to update the findings and suggestions for government action for countries reviewed in the TDA Report, as well as to assess each country's individual advancement toward eliminating the worst forms of child labor during the current reporting period compared to previous years. For more information on the types of issues covered in the TDA Report, please see Appendix II of the report. Materials submitted should be confined to the specific topics of the TDA report. DOL will generally consider sources with dates up to five years old (i.e., data not older than January 1, 2010). DOL appreciates the extent to which submissions clearly indicate the time period to which they apply. In the interest of transparency, classified information will not be accepted. Where applicable, information submitted should indicate its source or sources, and copies of the source material should be provided. If primary sources are utilized, such as research studies, interviews, direct observations, or other sources of quantitative or qualitative data, details on the research or data-gathering methodology should be provided. Please see the 2013 TDA Report for a complete explanation of relevant terms, definitions, and reporting guidelines employed by DOL.

This notice is a general solicitation of comments from the public.

Signed at Washington, DC, this 6th day of November 2014.
Carol Pier,
Deputy Undersecretary for International Affairs.

[FR Doc. 2014-26845 Filed 11-12-14; 8:45 am]

BILLING CODE 4510-28-P